DEPARTMENT OF HEALTH AND HUMAN SERVICES

Administration for Children and Families

Reauthorization of the Temporary Assistance for Needy Families (TANF) Program Authority

AGENCY: Administration for Children and Families, HHS.

ACTION: Solicitation of comments.

SUMMARY: On August 22, 1996, Congress enacted the Personal Responsibility and Work Opportunity Reconciliation Act. This legislation created a new welfare block grant program, known as the Temporary Assistance for Needy Families, or TANF. The TANF program goes before Congress for reauthorization next year. The purpose of this notice is to invite public comment about what changes the Administration should propose for this program.

DATES: Submit comments on or before November 30, 2001.

ADDRESSES: Submit comments through the mail to: TANF Reauthorization Ideas, Office of Family Assistance, 5th Floor East, Aerospace Building, 370 L'Enfant Promenade, SW, Washington, DC 20447. Hand deliver comments to: Office of Family Assistance, 5th Floor East, 901 D Street, SW., Washington, DC. If you wish to comment electronically, go to OFA's Web site at http://www.acf.dhhs.gov/programs/ofa/ and follow the instructions.

FOR FURTHER INFORMATION CONTACT: Ann Burek, Senior Program Specialist, Office of Family Assistance, ACF, at 202-401-4528. Ms. Burek's e-mail address is: aburek@acf.dhhs.gov.

SUPPLEMENTARY INFORMATION:

Legislative Background

Title I of the Personal Responsibility and Work Opportunity Reconciliation Act of 1996, Pub. L. 104-193, established the Temporary Assistance for Needy Families (TANF) program at title IV-A of the Social Security Act (the Act). TANF is a block grant program that has facilitated dramatic reforms in the nation's welfare system. Its focus is on moving recipients into work and turning welfare into a program of temporary assistance, preventing and reducing the incidence of out-of-wedlock births, and promoting stable two-parent families.

TANF replaced the national welfare program known as Aid to Families with Dependent Children (AFDC) that provided cash assistance to needy families on an entitlement basis. It also replaced the related programs known as the Job Opportunities and Basic Skills Training (JOBS) program and the Emergency Assistance (EA) program. The law, which provides the major portion of the state and tribal funding for TANF in the form of a block grant, was only authorized through 2002.

You may find an electronic version of the enrolled bill at: http://thomas.loc.gov/cgi-bin/query/z?c104:H.R.3734.ENR.

Authority: E.O. 13132. 64 FR 43255, 3 CFR, 1999 Comp., p. 206.

Public Input

Between mid-October and mid-November, the Department is sponsoring five regional meetings with key officials from each state to receive input as the Administration considers its TANF reauthorization proposal. The Department will also be sponsoring a meeting with tribal representatives that will focus on tribal TANF issues. However, it is not possible to capture input from all individuals and organizations that have an interest in TANF reauthorization through these meetings. Thus, this notice is intended to provide any and all parties an opportunity to submit comments.

The Department's primary interest is gathering input about the TANF provisions of the legislation. However, many other federal programs, such as the Food Stamp Program, the Child Care and Development Fund, Child Welfare, and Child Support Enforcement, serve the same needy families as TANF and provide related benefits. Some of these programs are facing reauthorization next year as well. Thus, the Department will also accept comments on program coordination issues.

Dated: October 11, 2001.
Tommy G. Thompson,
Secretary.

[FR Doc. 01-26038 Filed 10-16-01; 8:45 am]

BILLING CODE 4184-01-P